DEPARTMENT OF THE INTERIOR

Bureau of Land Management

[MT-021-00-1430-ES; MTM-79100]

Notice of Realty Action; Recreation and Public Purposes (R&PP) Act Classification; Montana

AGENCY: Bureau of Land Management, Miles City Field Office, Interior.

ACTION: Notice.

SUMMARY: The following public lands near the community of Glendive, Dawson County, Montana have been examined and found suitable for classification and opening under provisions of the Recreation and Public Purposes Act, as amended (43 U.S.C. 869 et seq.).

Principal Montana Meridian

T15N, R55E, PMM, Sec 14: Lots 1-4, E2, E2W2

Sec 24: All

T15N, R56E, PMM, Sec 6: Lots 1-7, S2NE, SENW, E2SW, SE

Sec 30: Lots 1-2, E2, E2NW

Sec 32: NE, N2NW, SENW

Containing 2,699.64 acres more or less.

The lands are not needed for Federal purposes. Conveyance of the lands for recreational use is consistent with current BLM land use planning and would be in the public interest.

The patent, when issued, will be subject to the following terms, conditions and reservations:

1. Provisions of the Recreation and Public Purposes Act and to all applicable regulations of the Secretary of the Interior.

2. A right-of-way for ditches and canals constructed by the authority of the United States.

3. All minerals shall be reserved to the United States, together with the right to prospect for, mine, and remove the minerals.

4. The patentee agrees that it takes the herein described lands subject to the existing grazing use of Charles Ferguson, Kenneth Nemitz, and J.I. Engle, holders of grazing authorizations Nos. 253064, 252925, and 252895. The rights of Charles Ferguson, Kenneth Nemitz, and J.I. Engle to graze domestic livestock on the herein described lands according to the conditions and terms of grazing authorizations Nos. 253064, 252925, and 252895 shall cease on May 12, 2001. The patentee is entitled to receive annual grazing fees from Charles Ferguson, Kenneth Nemitz, and J.I. Engle in an amount not to exceed that which would be authorized under the Federal grazing fee published annually in the Federal Register until May 12, 2001.

Upon publication of this notice in the Federal Register, the lands will be segregated from all forms of appropriation under the public land laws, including the general mining laws, except for lease or conveyance under the Recreation and Public Purposes Act and leasing under the mineral leasing laws.

DATES: Comments must be submitted on or before April 10, 2000. Any adverse comments will be reviewed by the State Director. In the absence of any adverse comments, the classification will become effective on April 25, 2000.

ADDRESSES: Interested persons may submit comments regarding the proposed conveyance or classification of the lands to the Field Manager, Miles City Field Office, 111 Garryowen Road, Miles City, MT 59301.

FOR FURTHER INFORMATION CONTACT: Brian Lynnes, Realty Specialist, (406) 233-2822.

SUPPLEMENTARY INFORMATION:

Classification Comments

Interested parties may submit comments involving the suitability of the land for Makoshika State Park. Comments on the classification are restricted to whether the land is physically suited for the proposal, whether the use will maximize the future use or uses of the land, whether the use is consistent with local planning and zoning, or if the use is consistent with State and Federal programs.

Application Comments

Interested parties may submit comments regarding the specific use proposed in the application and plan of development, whether the BLM followed proper administrative procedures in reaching the decision, or any other factor not directly related to the suitability of the land for Makoshika State Park.

Dated: February 16, 2000.
Timothy M. Murphy,
Field Manager.

[FR Doc. 00-4505 Filed 2-24-00; 8:45 am]

BILLING CODE 4310-$$-P